DEPARTMENT OF TRANSPORTATION

Surface Transportation Board

[STB Finance Docket No. 33859]

Indiana Southwestern Railway Co.—Acquisition and Operation Exemption—Evansville Terminal Company, Inc. and AB Rail Investments, Inc.

Indiana Southwestern Railway Co. (ISW), a noncarrier, has filed a verified notice of exemption under 49 CFR 1150.31 to purchase and operate two connecting lines of railroad in Vanderburgh and Posey Counties, IN, as follows: (1) Approximately 17.2 route miles from Evansville to Poseyville, owned by the Evansville Terminal Company (ETC); and (2) approximately 4.667 route miles from Poseyville to Cynthiana, owned by AB Rail Investments, Inc.¹

¹ ETC currently operates both lines of railroad.

The parties reported that they intended to consummate the transaction on or about March 15, 2000. The earliest the transaction could have been consummated was March 15, 2000, the effective date of the exemption (7 days after the exemption was filed).

This transaction is related to STB Finance Docket No. 33858, Pioneer Railcorp—Continuance in Control Exemption—Indiana Southwestern Railway Co., wherein Pioneer Railcorp has concurrently filed a verified notice to continue in control of ISW upon its becoming a Class III rail carrier.

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 33859, must be filed with the Surface Transportation Board, Office of the Secretary, Case Control Unit, 1925 K Street, N.W., Washington, DC 20423-0001. In addition, a copy of each pleading must be served on John D. Heffner, Esq., Rea, Cross & Auchincloss, 1707 L Street, NW., Suite 570, Washington, DC 20036.

Board decisions and notices are available on our website at “WWW.STB.DOT.GOV.”

Decided: March 21, 2000.
By the Board, David M. Konschanik, Director, Office of Proceedings.
Vernon A. Williams,
Secretary.

[FR Doc. 00-7591 Filed 3-27-00; 8:45 am]

BILLING CODE 4915-00-P